DEPARTMENT OF JUSTICE

Notice of Lodging of Partial Consent Decree Under the Comprehensive Environmental Response, Compensation and Liability Act, 42 U.S.C. 9601 et seq.

Notice is hereby given that on February 7, 2002, a proposed partial consent decree (“consent decree”) in United States v. Chrysler Corp., et al., Civil Action No. 5:97CV00894, was lodged with the United States District Court for the Northern District of Ohio.

In this action the United States sought recovery, under Sections 107(a) and 113 of the Comprehensive Environmental Response, Compensation and Liability Act (“CERCLA”), 42 U.S.C. 9607(a) and 9613, of response costs incurred in connection with the Krejci Dump Site in Summit County, Ohio (“Site”). The consent decree resolves claims under Sections 106 and 107 of CERCLA against Minnesota Mining and Manufacturing Company (“3M”), which is alleged to be liable as a result of having arranged for the disposal of hazardous substances at the Site. The consent decree recovers $14,700,000 in response costs, and $800,000 for natural resource damages, relating to the Site.

The Department of Justice will receive comments relating to the proposed consent decree for a period of thirty (30) days from the date of this publication. Comments should be addressed to the Assistant Attorney General, Environment and Natural Resources Division, Department of Justice, P.O. Box 7611, Washington, DC 20044-7611, and should refer to United States v. Chrysler Corp., et al., D.J. Ref. No. 90-11-3-768.

The proposed consent decree may be examined at the Office of the United States Attorney, 1800 Bank One Center, 600 Superior Avenue, Cleveland, Ohio. A copy of the proposed consent decree may be obtained by mail from the Department of Justice Consent Decree Library, P.O. Box 7611, Washington, DC 20044-7611 or by faxing a request to Tonia Fleetwood, fax no. (202) 514-0097. In requesting a copy, please enclose a check payable to the “U.S. Treasury”, in the amount of $5.75 (25 cents per page reproduction cost). The check should refer to United States v. Chrysler Corp., et al., D.J. Ref. No. 90-11-3-768.

W. Benjamin Fisherow,
Deputy Chief, Environmental Enforcement Section, Environment and Natural Resources Division.

[FR Doc. 02-3562 Filed 2-13-02; 8:45 am]

BILLING CODE 4410-15-M